DEPARTMENT OF THE TREASURY

Customs Service

Use or Replacement of Continuous Bonds That Were Destroyed in New York

AGENCY: United States Customs Service, Department of the Treasury.

ACTION: General notice.

SUMMARY: This notice advises the public of the procedures that must be followed by importers to ensure continuous bond coverage on future import transactions in the case of continuous bonds maintained by Customs in New York that were destroyed in the terrorist attack on September 11, 2001.

DATES: A copy of a current bond must be provided to Customs, or a new bond must be filed with Customs, on or before June 12, 2002.

FOR FURTHER INFORMATION CONTACT: For questions regarding operational issues: The Entry and Drawback Management Branch, Office of Field Operations (202-927-0360). For inquiries about specific bonds: The Customs Bond Unit, Elizabeth, New Jersey (201-443-0234). A party making a telephonic inquiry regarding a specific bond should be prepared to provide its importer name and identification number.

SUPPLEMENTARY INFORMATION:

Background

The Customs laws and regulations require the posting of a surety bond to secure Customs transactions involving specific types of activities (for example, the importation and entry of merchandise, the custody of imported merchandise, the arrival and clearance of conveyances). A Customs bond may be approved by Customs for a particular activity involving one individual Customs transaction (for example, a single entry bond) or may be approved by Customs as a continuous bond for a particular activity involving multiple Customs transactions (for example, a continuous importation and entry bond). A single transaction bond normally is approved by Customs when presented in connection with the individual transaction to which it relates and remains in effect only for purposes of that one transaction. An application for a continuous transaction bond normally is filed with, and approved by, Customs before all of the transactions to which it relates arise, and the approved bond is retained on file by Customs and remains in effect until terminated by the parties to the bond.

The terrorist attack on the World Trade Center in New York on September 11, 2001, resulted in the destruction of Customs bonds and other documents that were being stored at the Customs offices at 6 World Trade Center. The destroyed bonds and other documents included, but were not limited to, continuous bonds which were filed for approval at the New York Seaport (port code 1001) and at the New York Regional Port (port code 7200). In order to ensure uninterrupted bond coverage and avoid the need to file an application for a new continuous bond, each party having a continuous bond of any type involving activity code 1 to 5 that has an effective date of September 11, 2001, or earlier and that was filed at either of the two ports referred to above and that remains in effect on the date of publication of this notice must, within 30 days of the date of publication of this notice, provide Customs with a copy of that bond together with the Customs bond number and copies of any riders to the bond. Failure to provide a copy of the bond within the prescribed 30 day period will cause Customs to refuse to accept a reference to the bond to guarantee future transactions. If a copy of the bond cannot be provided, the party must submit to Customs a new continuous bond application within the same 30-day period. For purposes of this notice, the term “party” refers to any individual or business association that prior to, or on or after, September 11, 2001, has engaged in activities secured by a continuous bond described above as having been destroyed on that date, either by virtue of being listed as a “Principal” on the bond or by virtue of being listed as a user in “Section III” on the bond.

The copy of the continuous bond or the new continuous bond application should be sent to either of the following addresses:

U.S. Customs Service,

Attention: Bond Desk,

1210 Corbin Street,

Elizabeth, New Jersey 07201;

or

U.S. Customs Service,

Attention: Bond Desk,

Bldg. 77,

JFK Airport,

Jamaica, New York 11430.

Dated: May 7, 2002.
Bonni G. Tischler,
Assistant Commissioner, Office of Field Operations.

[FR Doc. 02-11788 Filed 5-10-02; 8:45 am]

BILLING CODE 4820-02-P